DEPARTMENT OF LABOR

Employment and Training Administration

[TA-W-40,642]

Imerys Pigments and Additives Group, Dry Branch, Georgia; Notice of Termination of Investigation

Pursuant to section 221 of the Trade Act of 1974, an investigation was initiated on January 28, 2002 in response to a worker petition which was filed on behalf of workers at Imerys Pigments and Additives Group, Dry Branch, Georgia.

The petitioning group of workers are subject to an ongoing investigation for which a determination has not yet been issued (TA-W-40,509). Consequently, further investigation in this case would serve no purpose, and the investigation has been terminated.

Signed in Washington, DC, this 28th day of January, 2002.
Linda G. Poole,
Certifying Officer, Division of Trade Adjustment Assistance.

[FR Doc. 02-2693 Filed 2-4-02; 8:45 am]

BILLING CODE 4510-30-M